DEPARTMENT OF LABOR

Office of the Secretary

Agency Information Collection Activities; Submission for OMB Review; Comment Request; Employer Perceptions Study for the Evaluation of Round 4 of the Trade Adjustment Assistance Community College Career Training (TAACCCT) Grants Program

AGENCY: Chief Evaluation Office, Office of the Assistant Secretary for Policy, Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed Information Collection Request can be obtained by contacting the office listed below in the addressee section of this notice.

DATES: Written comments must be submitted to the office listed in the addressee section below on or before October 5, 2015.

ADDRESSES: You may submit comments by either one of the following methods: Email: ChiefEvaluationOffice@dol.gov; Mail or Courier: Megan Lizik, Chief Evaluation Office, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Contact Megan Lizik by email at ChiefEvaluationOffice@dol.gov.

SUPPLEMENTARY INFORMATION:

I. Background: The fourth round of the Trade Adjustment Assistance Community College Career Training (TAACCCT) grants program continues to provide community colleges and other eligible institutions of higher education with funds to expand and improve their ability to deliver education and career training programs that can be completed in two years or less and are suited for workers who are eligible for training under the Trade Adjustment Assistance for Workers program. In this round of grants, the solicitation of grant applications highlighted sector strategies and employer engagement as a core element of the TAACCCT grant activities.

The evaluation of Round 4 funded by the Department of Labor will include a study about employers' perceptions of and involvement with the workforce system and TAACCCT grant program. The study will involve the collection of data through a web-based survey and in-depth phone interviews with targeted employers identified as partners by TAACCCT grantees and other employers in selected grantee states or neighboring areas. This study will inform current and future efforts to encourage and support more effective employer engagement by the workforce system under the Workforce Innovation and Opportunity Act and in other Department-sponsored grant programs, such as TAACCCT.

II. Desired Focus of Comments: Currently, the Department of Labor is soliciting comments concerning the above data collection as part of the national evaluation of the TAACCCT grants program. Comments are requested to:

* Evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the information collection on those who are to respond, including the use of appropriate automated, electronic, mechanical, or other technological collection techniques or other forms of information technology, e.g., permitting electronic submissions of responses.

III. Current Actions: At this time, the Department of Labor is requesting clearance for data collection for the employer perceptions study as part of the evaluation of Round 4 TAACCCT grants program via collection of employer perceptions of the workforce system through an online survey and phone interviews.

Type of review: New information collection request.

OMB Control Number: 1290-0NEW.

Affected Public: Private sector-businesses or other for profits and not for profit institutions (employers involved with TAACCCT grants and other employers in selected grantee states or neighboring areas)

Estimated Burden Hours
Form/activity | Estimated total respondents | Frequency | Total responses | Average time per response (hours) | Estimated total burden hours
Employer survey | 310 | Once | 250 | 0.5 | 125
In-depth interviews | 30 | Once | 25 | 1 | 25
Totals | 340 |  | 275 |  | 150

Comments submitted in response to this request will be summarized and/or included in the request for Office of Management and Budget approval; they will also become a matter of public record.

Signed: at Washington, DC, this 31st day of July, 2015.
Mary Beth Maxwell,
Principal Deputy Assistant Secretary for Policy, U.S. Department of Labor.

[FR Doc. 2015-19270 Filed 8-5-15; 8:45 am]

BILLING CODE 4510-23-P